DEPARTMENT OF ENERGY

Privacy Act of 1974; Notice of Amendment to an Existing System of Records

AGENCY: Department of Energy.

ACTION: Notice.

SUMMARY: As required by the Privacy Act of 1974, 5 U.S.C. 552a, and the Office of Management and Budget (OMB) Circular A-130, the Department of Energy (DOE) is publishing a notice of a proposed amendment to an existing system of records. DOE proposes to amend the provisions for DOE-4, “Form EIA-457 Survey Reports, Residential Energy Consumption Survey (RECS),” to establish a new routine use provision that allows for disclosure of information to authorized agents as defined in the Confidential Information Protection and Statistical Efficiency Act of 2002, Title V of the E-Government Act of 2002 (Pub. L. 107-347, 116 Stat 2962), to use the information for exclusively statistical purposes.

DATES: The proposed amendment to this existing system of records will become effective without further notice June 5, 2006, unless in advance of that date, DOE receives adverse comments and determines that this amendment should not become effective.

ADDRESSES: Written comments should be directed to the following address: Jay Casselberry, EI-3, U.S. Department of Energy, 1000 Independence Avenue, SW., Washington, DC 20585.

FOR FURTHER INFORMATION CONTACT: Abel Lopez, Director, Freedom of Information Act and Privacy Act Group, ME-74, U.S. Department of Energy, 1000 Independence Avenue, SW., Washington, DC 20585, 202-586-5955; Jay Casselberry, EI-3, U.S. Department of Energy, 1000 Independence Avenue, SW., Washington, DC 20585, 202-586-8616; and Isiah Smith, Deputy Assistant General Counsel for Administrative Litigation and Information Law, GC-77, U.S. Department of Energy, 1000 Independence Avenue, SW., Washington, DC 20585, 202-586-8618.

SUPPLEMENTARY INFORMATION: In accordance with the December 17, 2002, enactment of the Confidential Information Protection and Statistical Efficiency Act of 2002 (CIPSEA), Title V of the E-Government Act of 2002 (Pub. L. 107-347, 116 Stat 2962), DOE proposes to amend the provisions for DOE-4, “Form EIA-457 Survey Reports, Residential Energy Consumption Survey (RECS),” to establish a new routine use provision that allows for disclosure of information to authorized agents, as defined in CIPSEA, to use the information for exclusively statistical purposes.

Section 512(a) of the CIPSEA provides an opportunity for statistical agencies and organizational units to designate agents (as defined in section 502(2)(A)) who may use Federal statistical data collected or acquired under a pledge of confidentiality for exclusively statistical purposes. The agency that possesses the confidential information must ensure that any agent provided access to the information will comply with CIPSEA.

The DOE proposes to amend DOE-4 to allow for the disclosure of identifiable information maintained in the system of records to agents approved by EIA that agree in writing to maintain the confidentiality of the information and to use the information for exclusively statistical purposes. At this time, DOE is also updating information in other sections of the system of records notice including the system location, purposes, and categories of users.

DOE is submitting the report required by OMB Circular A-130 concurrently with the publication of this notice. The text of this notice contains the information required by the Privacy Act, 5 U.S.C. 552a(e)(4).

Issued in Washington, DC on April 12, 2006.
Ingrid A. C. Kolb,
Director, Office of Management.

DOE-4

SYSTEM NAME:

Form EIA-457 Survey Reports, Residential Energy Consumption Survey (RECS).

SECURITY CLASSIFICATION:

Unclassified.

SYSTEM LOCATION(S):

U.S. Department of Energy, Energy Information Administration (EIA), 1000 Independence Avenue, SW., Washington, DC 20585.

CATEGORIES OF INDIVIDUALS COVERED BY THE SYSTEM:

Persons responding to the Form EIA-457, Residential Energy Consumption Survey (RECS).

CATEGORIES OF RECORDS IN THE SYSTEM:

Name, age, gender, race, ethnicity, home address, home telephone number, income, family size and composition, characteristics of household, characteristics of housing unit, fuels used, household vehicles, name and address of landlord, names and addresses of energy suppliers, and records of energy purchases.

AUTHORITY FOR MAINTENANCE OF THE SYSTEM:

42 U.S.C. 7101 et seq. and 50 U.S.C. 2401 et seq.

PURPOSE(S):

The information is collected and maintained by the DOE to measure the levels of energy consumption by homeowners and the cost of energy consumed. The information also is used for monitoring, analyzing, and modeling changes in the residential sector and its energy consumption.

ROUTINE USES OF RECORDS MAINTAINED IN THE SYSTEM, INCLUDING CATEGORIES OF USERS AND THE PURPOSES OF SUCH USES:

A record from the system may be disclosed as a routine use to DOE contractors in performance of their contracts, and their officers and employees who have a need for the record in the performance of their duties.

A record may be disclosed to an agent under a written agreement to maintain the confidentiality of the record, to use the information for exclusively statistical purposes, and to use the information consistent with the purposes cited above. Those provided information under the routine uses are subject to the Privacy Act.

POLICIES AND PRACTICES FOR STORING, RETRIEVING, ACCESSING, RETAINING, AND DISPOSING OF RECORDS IN THE SYSTEM:

STORAGE:

Records may be stored as paper records and electronic media.

RETRIEVABILITY:

Records may be retrieved by name and identification number.

SAFEGUARDS:

Paper records are maintained in locked cabinets and desks. Electronic records are controlled through established computer center procedures (personnel screening and physical security), and they are password protected. Passwords are known only by authorized system users. Access is limited to those whose official duties require access to the records.

RETENTION AND DISPOSAL:

Records retention and disposal authorities are contained in the National Archives and Records Administration (NARA) General Records Schedule and DOE record schedules that have been approved by NARA.

SYSTEM MANAGER(S) AND ADDRESS:

Headquarters: Administrator, Energy Information Administration, U.S. Department of Energy, 1000 Independence Avenue, SW., Washington, DC 20585.

NOTIFICATION PROCEDURES:

In accordance with the DOE regulation implementing the Privacy Act, at Title 10, Code of Federal Regulations, Part 1008, a request by an individual to determine if a system of records contains information about him/her should be directed to the Director, Headquarters Freedom of Information Act and Privacy Act Group, U.S. Department of Energy. The request should include the requester's complete name, time period for which records are sought, and the office locations(s) where the requester believes the records are located.

RECORDS ACCESS PROCEDURES:

Same as Notification Procedures above. Records are generally kept at locations where the work is performed. In accordance with the DOE Privacy Act regulation, proper identification is required before a request is processed.

CONTESTING RECORD PROCEDURES:

Same as Notification Procedures above.

RECORD SOURCE CATEGORIES:

The subject individual and energy supply companies.

SYSTEM EXEMPT FROM CERTAIN PROVISIONS OF THE ACT:

None.

[FR Doc. E6-5892 Filed 4-18-06; 8:45 am]

BILLING CODE 6450-01-P